DEPARTMENT OF LABOR

Office of the Secretary

Agency Information Collection Activities; Submission for OMB Review; Comment Request; Baseline Safety and Health Practices Survey

ACTION: Notice.

SUMMARY: The Department of Labor (DOL) hereby announces submission of the Occupational Safety and Health Administration (OSHA) sponsored information collection request (ICR), “Baseline Safety and Health Practices Survey,” to the Office of Management and Budget (OMB) for review and approval for use in accordance with the Paperwork Reduction Act of 1995 (PRA), Public Law 104-13, 44 U.S.C. chapter 35.

DATES: Submit comments on or before December 3, 2010.

ADDRESSES: A copy of this ICR, with applicable supporting documentation; including a description of the likely respondents, proposed frequency of response, and estimated total burden may be obtained from the RegInfo.gov Web site, http://www.reginfo.gov/public/do/PRAMain or by contacting Michel Smyth by telephone at 202-693-4129 (this is not a toll-free number) or sending an e-mail to dol_pra_public@dol.gov.

Submit comments about this request to the Office of Information and Regulatory Affairs, Attn: OMB Desk Officer for the Department of Labor, Occupational Safety and Health Administration (OSHA), Office of Management and Budget, Room 10235, Washington, DC 20503, Telephone: 202-395-6881/Fax: 202-395-5806 (these are not toll-free numbers), e-mail: OIRA_submission@omb.eop.gov.

FOR FURTHER INFORMATION CONTACT: Contact Michel Smyth by telephone at 202-693-4129 (this is not a toll-free number) or by e-mail at dol_pra_public@dol.gov.

SUPPLEMENTARY INFORMATION: The DOL is seeking OMB authorization of information collections related to Baseline Safety and Health Practices Survey. The OSHA is undertaking a rulemaking effort directed toward requiring employers to establish injury and illness prevention programs (I2P2) to monitor and more effectively implement practices to mitigate workplace hazards, thereby reducing the incidence of employee injuries and illnesses. The OSHA believes widespread implementation of such programs will substantially improve overall workplace safety and health conditions.

The OSHA is proposing to conduct a statistical survey of private sector establishments in non-agricultural industries. The goal of the survey is to develop industry-specific, statistically accurate estimates of current prevalence of a variety of baseline safety and health practices that may be elements of I2P2 among establishments. The OSHA also proposes to conduct case study interviews with establishments in the agriculture sector to assess the prevalence of safety and health practices among farms with more than 10 employees. Finally, the OSHA proposes to conduct case study interviews with government officials in state-plan states to assess safety and heath practices among agencies and departments operated by state and local governments.

The Baseline Safety and Health Practices Survey is an information collection subject to the PRA. A Federal agency generally cannot conduct or sponsor a collection of information, and the public is generally not required to respond to an information collection, unless it is currently approved by the OMB under the PRA and displays a currently valid OMB Control Number. In addition, notwithstanding any other provision of law, no person shall generally be subject to penalty for failing to comply with a collection of information if the collection of information does not display a currently valid OMB Control Number. See 5 CFR 1320.5(a) and 1320.6.

The DOL is seeking approval for this new information collection. For additional information, see the related notice published in the Federal Register on May 13, 2010 (75 FR 27001).

The DOL, as part of its continuing effort to reduce paperwork and respondent burden, submits information collections for OMB consideration after conducting a preclearance consultation program to provide the public with an opportunity to comment on proposed and continuing information collection requirements in accordance with the PRA. See 44 U.S.C. 3506(c)(2)(A). This program ensures that information is in the desired format, reporting burden (time and cost) is minimal, collection instruments are clearly understood, and the estimate of the information collection burden is accurate.

Interested parties are encouraged to send comments to the OMB, Office of Information and Regulatory Affairs at the address shown in the ADDRESSES section within 30 days of publication of this notice in the Federal Register. In order to ensure appropriate consideration, comments should reference OMB ICR Tracking Number 201010-1218-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA).

Type of Review: New collection of information.

Title of Collection: Baseline Safety and Health Practices.

Form Numbers: Not applicable.

OMB Control Number: Pending.

Affected Public: Private sector, Businesses, or other for-profits, Farms; State, Local, and Tribal Governments.

Total Estimated Number of Responses: 10,787.

Total Estimated Annual Burden Hours: 4177.

Total Estimated Annual Costs Burden: $0.

Dated: October 27, 2010.
Michel Smyth,
Departmental Clearance Officer.

[FR Doc. 2010-27753 Filed 11-2-10; 8:45 am]

BILLING CODE 4510-26-P